OFFICE OF THE UNITED STATES TRADE REPRESENTATIVE

Determination Under the African Growth and Opportunity Act

AGENCY: Office of the United States Trade Representative.

ACTION: Notice.

SUMMARY: The United States Trade Representative (USTR) has determined that Togo has adopted an effective visa system and related procedures to prevent the unlawful transshipment of textile and apparel articles and the use of counterfeit documents in connection with the shipment of such articles, and has implemented and follows, or is making substantial progress towards implementing and following, the custom procedures required by the African Growth and Opportunity Act (AGOA). Therefore, imports of eligible products from Togo qualify for the textile and apparel benefits provided under the AGOA.

DATES: This notice is applicable on August 22, 2017.

FOR FURTHER INFORMATION CONTACT: Constance Hamilton, Acting Assistant United States Trade Representative for African Affairs, (202) 395-9514 or Constance_Hamilton@ustr.eop.gov.

SUPPLEMENTARY INFORMATION: The AGOA (Title I of the Trade and Development Act of 2000, Pub. L. 106-200, as amended) provides preferential tariff treatment for imports of certain textile and apparel products of beneficiary sub-Saharan African countries. The textile and apparel trade benefits under AGOA are available to imports of eligible products from countries that the President designates as “beneficiary sub-Saharan African countries,” provided that these countries: (1) Have adopted an effective visa system and related procedures to prevent the unlawful transshipment of textile and apparel articles and the use of counterfeit documents in connection with shipment of such articles; and (2) have implemented and follow, or are making substantial progress towards implementing and following, certain customs procedures that assist the U.S. Customs and Border Protection in verifying the origin of the products. In Proclamation 8240 dated April 17, 2008 (73 FR 21513), the President designated Togo as a “beneficiary sub-Saharan African country” and proclaimed, for the purposes of section 112(c) of AGOA, that Togo should be considered a lesser developed beneficiary sub-Saharan African country.

In Proclamation 7350 of October 2, 2000, the President authorized the United States Trade Representative to perform the function of determining whether eligible sub-Saharan countries have met the two requirements described above. The President directed the United States Trade Representative to announce any such determinations in the Federal Register and to implement them through modifications in the Harmonized Tariff Schedule of the United States (HTS). Based on the actions Togo has taken, the United States Trade Representative has determined that Togo has satisfied these two requirements.

Accordingly, pursuant to the authority vested in the United States Trade Representative by Proclamation 7350, U.S. note 7(a) to subchapter II of chapter 98 of the HTS, and U.S. notes 1 and 2(d) to subchapter XIX of the HTS, are modified by inserting “Togo” in alphabetical sequence in the list of countries. The foregoing modifications to the HTS are effective with respect to articles entered, or withdrawn from warehouse for consumption, on or after the effective date of this notice. Imports claiming preferential tariff treatment under the AGOA for entries of textile and apparel articles should ensure that those entries meet the applicable visa requirements. See 66 FR 7837 (January 25, 2001).

Constance Hamilton,
Acting Assistant United States Trade Representative for African Affairs, Office of the United States Trade Representative.

[FR Doc. 2017-17705 Filed 8-21-17; 8:45 am]

BILLING CODE 3290-F7-P